ENVIRONMENTAL PROTECTION AGENCY

40 CFR Part 62

[AZ 025-MWIb; FRL-6717-8]

Approval and Promulgation of State Plans for Designated Facilities and Pollutants; Arizona; Control of Emissions from Existing Hospital/Medical/Infectious Waste Incinerators

AGENCY: Environmental Protection Agency (EPA).

ACTION: Proposed rule.

SUMMARY: EPA is proposing to approve the Arizona State Plan for implementing the emissions guidelines applicable to existing hospital/medical/infectious waste incinerators (HMIWIs). The Plan was submitted by the Arizona Department of Environmental Quality (ADEQ) for the State of Arizona to satisfy requirements of sections 111(d) and 129 of the Federal Clean Air Act. In the Final Rules section of this Federal Register, EPA is approving the Arizona State Plan as a direct final rule without prior proposal because the Agency views this as a noncontroversial action and anticipates that it will not receive any significant, material, and adverse comments. A detailed rationale for the approval is set forth in the direct final rule. If no significant, material, and adverse comments are received in response to this action, no further activity is contemplated in relation to this proposed rule. If EPA receives relevant adverse comments, the direct final rule will be withdrawn and all public comments received will be addressed in a subsequent final rule based on this proposed rule. EPA will not institute a second comment period on this action.

DATES: Comments must be received in writing by July 24, 2000.

ADDRESSES: Written comments should be addressed to Andrew Steckel, Rulemaking Office (AIR-4), Air Division, U.S. Environmental Protection Agency, Region IX, 75 Hawthorne Street, San Francisco, CA 94105-3901.

Copies of the documents relevant to this proposed rule are available for public inspection at EPA's Region IX office during normal business hours. Copies of the submitted State Plan are also available for inspection at the following location: Air Quality Division, Arizona Department of Environmental Quality, 3033 N. Central Avenue, Phoenix, Arizona 85012.

FOR FURTHER INFORMATION CONTACT: Patricia A. Bowlin, (AIR-4), Air Division, U.S. Environmental Protection Agency, Region IX, 75 Hawthorne Street, San Francisco, CA 94105-3901, Telephone: (415) 744-1188.

SUPPLEMENTARY INFORMATION: See the information provided in the Direct Final action which is located in the Rules section of this Federal Register.

Dated: June 5, 2000.
Laura Yoshii,
Acting Regional Administrator, Region IX.

[FR Doc. 00-15289 Filed 6-21-00; 8:45 am]

BILLING CODE 6560-50-P